DEPARTMENT OF STATE

[Public Notice 6140]

Title: STATE-42 Munitions Control Records

SUMMARY: Notice is hereby given that the Department of State proposes to alter an existing system of records, STATE-42, pursuant to the provisions of the Privacy Act of 1974, as amended (5 U.S.C.(r)), and Office of Management and Budget Circular No. A-130, Appendix I. The Department's report was filed with the Office of Management and Budget on 1 February 2008.

It is proposed that the current system will retain the name “Munitions Control Records.” It is also proposed that due to the expanded scope of the current system, the altered system description will include revisions and/or additions to the following sections: System Location; Categories of Individuals covered by the System; Authority for Maintenance of the System; and Routine Uses of Records Maintained in the System, Including Categories of Users and Purposes of such Uses. Changes to the existing system description are proposed in order to reflect more accurately the Directorate of Defense Trade Controls, Bureau of Political-Military Affairs' recordkeeping system, the Authority establishing its existence and responsibilities, and the uses and users of the system.

Any persons interested in commenting on the altered system of records may do so by submitting comments in writing to Margaret P. Grafeld, Director; Office of Information Programs and Services; A/ISS/IPS; Department of State, SA-2; Washington, DC 20522-8001. This system of records will be effective 40 days from the date of publication, unless we receive comments that will result in a contrary determination.

The altered system description, “Munitions Control Records, State-42,” will read as set forth below.

Dated: January 31, 2008.
Raj Chellaraj,
Assistant Secretary for the Bureau of Administration, Department of State.

STATE-42

SYSTEM NAME:

Munitions Control Records.

SECURITY CLASSIFICATION:

Unclassified and classified.

SYSTEM LOCATION:

Department of State, Annex 1; Room 1200; 2401 E Street, NW.; Washington, DC 20522.

CATEGORIES OF INDIVIDUALS COVERED BY THE SYSTEM:

Exporters of defense articles and defense services with or without Department of State authorization; applicants for export licenses; registered exporters; brokers for sales of defense articles or defense services who completed registration statements or submitted requests for approval of a brokering activity; and debarred parties.

AUTHORITY FOR MAINTENANCE OF THE SYSTEM:

22 U.S.C. 2651A (Organization of Department of State); 5 U.S.C. 301 (Departmental Regulations); 22 U.S.C. 2778 (Arms Export Control Act).

CATEGORIES OF RECORDS IN THE SYSTEM:

Correspondence, registration statements when a principal executive officer or owner is the same as the applicant, and checks for registration fees sent to the Department of State (Department) when an individual or business registers as a manufacturer, exporter and/or broker of defense articles or defense services; copies of letters to individuals and businesses from the Department pertaining to their registration, including notices of suspension and debarment; Proposed Charging Letters and Orders and Consent Agreements pertaining to the Department's administrative cases; Federal Register Notices of statutory debarment; correspondence, memoranda, federal court documents, telegrams, other government agency reports, and e-mail messages between the Department and other federal agencies regarding law enforcement and intelligence information about defense trade activities pertaining to the subject of the record.

ROUTINE USES OF RECORDS MAINTAINED IN THE SYSTEM, INCLUDING CATEGORIES OF USERS AND PURPOSES OF SUCH USES:

The information in this system is used primarily by the Directorate of Defense Trade Controls when making determinations regarding:

(a) Individuals and businesses that have been authorized to export or retransfer a defense article, defense service or related technical data;

(b) Which commodities, quantities, and dollar values were authorized for export and the extent of any export violations;

(c) Administrative charges imposed on an individual or business for violating the export regulations;

(d) The periodic publication of names, dates of conviction, and months and years of birth of those on the Debarred Parties List in the Federal Register pursuant to the authorities granted in 22 U.S.C. 2778(g)(1) as implemented in 22 CFR 127.7(c). Statutory Debarment is based solely upon the outcome of a criminal proceeding, conducted by a court of the United States that established guilt beyond a reasonable doubt in accordance with due process. Federal court documents serve as the source of information for names, dates of conviction, months and years of birth of debarred parties.

(e) The removal of export privileges.

The principal users of this information outside the Department of State are the Department of Homeland Security and the Department of Justice for their investigations of violations of the Arms Export Control Act. This information may also be released to other federal intelligence and law enforcement agencies pursuant to statutory intelligence and law enforcement responsibilities. The information in this system may also be used to send required reports to Congress about certain defense trade transactions. See also the Department of State Prefatory Statement of Routine Uses published in the Federal Register.

POLICIES AND PRACTICES FOR STORING, RETRIEVING, ACCESSING, RETAINING AND DISPOSING OF RECORDS IN THE SYSTEM:

STORAGE:

Electronic media, hard copy.

RETRIEVABILITY:

Individual name, company name, DDTC Registration Code, DDTC Case Number.

SAFEGUARDS:

All employees of the Department of State have undergone a thorough personnel security background investigation. Access to the Department of State building and the annexes is controlled by security guards, and admission is limited to those individuals possessing a valid identification card or individuals under proper escort. All records containing personal information are maintained in secured filing cabinets or in restricted areas, access to which is limited to authorized personnel. Access to electronic files is password-protected and under the direct supervision of the system manager. The system manager has the capability of printing audit trails of access from the computer media, thereby permitting regular and ad hoc monitoring of computer usage.

RETENTION AND DISPOSAL:

These records will be maintained until they become inactive, at which time they will be destroyed or retired in accordance with published record disposition schedules of the Department of State and as approved by the National Archives and Records Administration. More specific information may be obtained by writing to the Director, Office of Information Programs and Services, A/ISS/IPS, SA-2, Department of State, Washington, DC 20522-8001.

SYSTEM MANAGER AND ADDRESS:

Managing Director, Directorate of Defense Trade Controls, Bureau of Political-Military Affairs, SA-1, 12th Floor, 2401 E Street NW., Washington DC 20522. http://www.pmddtc.state.gov/.

NOTIFICATION PROCEDURE:

Individuals who have reason to believe that the Directorate of Defense Trade Controls might have records pertaining to them should write to the Director, Office of Information Programs and Services, A/ISS/IPS, SA-2, Department of State, Washington, DC 20522-8001. The individual must specify that he or she wishes the records of the Directorate of Defense Trade Controls to be checked. At a minimum, the individual should include: name; date and place of birth; current mailing address and zip code; signature; a brief description of the circumstances that caused the creation of the record (including the city and/or country and the approximate dates) which gives the individual cause to believe that the Directorate of Defense Trade Controls has records pertaining to him or her.

RECORD ACCESS AND AMENDMENT PROCEDURES:

Individuals who wish to gain access to or to amend records pertaining to themselves should write to the Director, Office of Information Programs and Services (address above).

RECORD SOURCE CATEGORIES:

These records contain information that is primarily obtained from the individual, from the organization the individual represents, federal court documents and intelligence and law enforcement agencies.

SYSTEMS EXEMPTED FROM CERTAIN PROVISIONS OF THE ACT:

Portions of certain records contained within this system of records are exempted from 5 U.S.C. 552a (c)(3),(d),(e)(1),(3)(4)(G),(H) and (I), and (f). See 22 CFR 171.36.

[FR Doc. E8-5684 Filed 3-19-08; 8:45 am]

BILLING CODE 4710-24-P